DEPARTMENT OF HEALTH AND HUMAN SERVICES

National Institutes of Health

Proposed Collection; 60-Day Comment Request NIH Special Volunteer and Guest Researcher Assignment (Office of Intramural Research, Office of the Director)

AGENCY: National Institutes of Health.

ACTION: Notice.

SUMMARY: In compliance with the requirement of the Paperwork Reduction Act of 1995 to provide opportunity for public comment on proposed data collection projects, the National Institutes of Health (NIH), Office of Intramural Research (OIR), Office of the Director (OD) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Arlyn Garcia-Perez, Director of Policy and Analysis, Office of Intramural Research, Office of the Director, National Institutes of Health, 1 Center Drive MSC 0140, Building 1, Room 160, MSC-0140, Bethesda, Maryland, 20892 or call non-toll-free number (301) 496-1921 or (301) 496-1381 or Email your request, including your address to: GarciaA@od.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Extension of NIH Form 590, NIH Form 590-1 and NIH Form 590-2, OMB #0925-0177, exp. date March 31, 2026, Office of Intramural Research (OIR), Office of the Director (OD), National Institutes of Health (NIH).

Need and Use of Information Collection: Special Volunteers and Guest Researchers both fill the main collection instrument, NIH Form 590. Form NIH-590 is a single form completed by an NIH official for each Guest Researcher or Special Volunteer prior to his/her arrival at NIH. The information on the form is necessary for the approving official to reach a decision on whether to allow a Guest Researcher to use NIH facilities or whether to accept volunteer services offered by a Special Volunteer. If the original assignment is extended, another form notating the extension is completed to update the file. In addition to NIH Form 590, Guest Researchers fill a separate Guest Researcher Agreement, NIH Form 590-1, and Special Volunteers fill a separate Special Volunteer Agreement, NIH Form 590-2. These additional forms are the legal instruments for the Guest Researcher or Special Volunteer to acknowledge and agree to the conditions and responsibilities of their assignment at NIH. No revisions are proposed for any of the three forms currently.

OMB approval is requested for 3 years. There are no costs to respondents other than their time. The total estimated annualized burden hours are 652.

Estimated Annualized Burden Hours
Form name | Type of respondents | Number of respondents | Number of responses per respondent | Average burden per response (in hours) | Total annual burden hours
Special Volunteer and Guest Researcher Assignment | Special Volunteers and Guest researchers | 2,300 | 2 | 6/60 | 460
NIH Special Volunteer Agreement | Special Volunteers | 2,100 | 1 | 5/60 | 175
NIH Guest Researcher Agreement | Guest Researchers | 200 | 1 | 5/60 | 17
Totals |  | 2,300 | 6,900 |  | 652

Dated: September 19, 2025.
Matthew J. Memoli,
Principal Deputy Director, National Institutes of Health.

[FR Doc. 2025-18529 Filed 9-24-25; 8:45 am]

BILLING CODE 4140-01-P